DEPARTMENT OF HEALTH AND HUMAN SERVICES

Centers for Medicare & Medicaid Services

[CMS-5501-CN]

Medicare Program; Pioneer Accountable Care Organization Model, Request for Applications; Correction

AGENCY: Centers for Medicare & Medicaid Services (CMS), HHS.

ACTION: Correction notice.

SUMMARY: This document corrects technical errors that appeared in the notice published in the May 20, 2011 Federal Register entitled “Medicare Program; Pioneer Accountable Care Organization Model: Request for Applications.”

FOR FURTHER INFORMATION CONTACT: Maria Alexander, (410) 786-4792.

SUPPLEMENTARY INFORMATION:

I. Background

In FR Doc. 2011-12383 of May 20, 2011 (76 FR 29249), there was a technical error that has been identified and corrected in the section III. of this notice (Correction of Errors section).

II. Summary of Errors

On page 29250 of the notice in the DATES section, we inadvertently requested that the Office of the Federal Register base the application submission deadline on the 60th day after publication of the notice (that is, July 19, 2011) instead of postmarked on or before July 18, 2011 which was noted in the information posted on our Center for Medicare and Medicaid Innovation (CMMI) Web site and in the Pioneer ACO Application. (For more information see http://innovations.cms.gov/areas-of-focus/seamless-and-coordinated-care-models/pioneer-aco/.) Therefore, in section III. of this correction notice, we correct this error by inserting the date of the application submission deadline that coincides with the application submission deadline announced in the Request for Application posted on the CMMI Web site, which is postmarked on or before July 18, 2011.

III. Correction of Errors

In FR Doc. 2011-12383 of May 20, 2011 (76 FR 29249), make the following correction:

1. On page 29250, in the DATES section, lines 10 and 11, the sentence “Applications must be received on or before July 19, 2011.” is corrected to read “Applications must be postmarked on or before July 18, 2011.”

Authority: Section 1115A of the Social Security Act.

Dated: June 2, 2011.
Jacquelyn Y. White,
Director, Office of Strategic Operations and Regulatory Affairs Centers for Medicare & Medicaid Services.

[FR Doc. 2011-14076 Filed 6-7-11; 8:45 am]

BILLING CODE 4120-01-P